DEPARTMENT OF COMMERCE

National Institute of Standards and Technology

Carbon Dioxide Removal Consortium

AGENCY: National Institute of Standards and Technology, Department of Commerce.

ACTION: Notice of research consortium.

SUMMARY: The National Institute of Standards and Technology (NIST), an agency of the United States Department of Commerce, in support of efforts to develop standards for carbon dioxide removal, is establishing the Carbon Dioxide Removal Consortium (“Consortium”). The Consortium will bring together stakeholders to identify and address measurement and standards needs related to carbon dioxide removal used to reduce the overall atmospheric carbon dioxide concentration. The Consortium efforts are intended to develop measurement solutions and support the development of widely accepted standards to improve measurement confidence, measurement traceability and comparability of carbon dioxide removal through nature-based, enhanced nature-based, and engineered pathways, with an initial focus on forests and direct air capture. Participants will be required to sign a Cooperative Research and Development Agreement (CRADA).

DATES: The Consortium's activities will commence on Sept 1, 2024 (“Commencement Date”). NIST will accept letters of interest to participate in this Consortium on an ongoing basis.

ADDRESSES: Completed letters of interest or requests for additional information about the Consortium can be directed via mail to the Consortium Manager, Dr. Pamela Chu, Material Measurement Laboratory, 100 Bureau Drive, Mail Stop 8320, Gaithersburg, Maryland 20899, or via electronic mail to co2removal@nist.gov, or by telephone at (301) 975-2988.

FOR FURTHER INFORMATION CONTACT: J'aime Maynard, Consortia Agreements Officer, National Institute of Standards and Technology's Technology Partnerships Office, by mail to 100 Bureau Drive, Mail Stop 2200, Gaithersburg, Maryland 20899, by electronic mail to agreements@nist.gov.

SUPPLEMENTARY INFORMATION: There is a significant effort underway to reduce global carbon dioxide emissions. In addition to transitioning to clean energy sources, increasing energy efficiencies, and deploying carbon capture, use, and storage, atmospheric carbon dioxide removal (CDR) is being developed and deployed to compensate for remaining hard-to-abate emissions and work towards drawing down the current atmospheric CO2 concentration level. Industry is developing a variety of CDR techniques including multiple different nature-based, enhanced nature-based, and engineered solutions. Given the number and diversity of carbon removal pathways, a variety of measurements, models, and data are needed to quantify carbon dioxide removed. Ultimately, quality-assured measurements and associated measurement uncertainties are required to quantify carbon removals and/or validate models that estimate the amount of carbon removed. The quantification of carbon removal in closed engineered systems, such as direct air capture, is reasonably straightforward. In contrast, quantifying carbon removal in dispersed natural and hybrid systems is extremely challenging. The scientific understanding, measurements, and models of these complex systems are still evolving; enhanced measurements and data are needed to improve and validate the models. Furthermore, advanced technologies that enhance applicability and accuracy are needed to expand current measurement capabilities. This will enable the acquisition of high-quality data, at appropriate spatial and temporal resolutions, over sufficient time to quantify the carbon uptake and verify that the carbon remains sequestered over the period claimed. Moreover, to be economically viable, the measurement and monitoring capabilities must be available at reasonable costs to deploy, scale, and maintain. Ultimately, measurement science along with SI traceability are critical tools to increase data veracity, quality, and objectivity and thus build quality and confidence in the carbon removal quantification.

The initial focus of this consortium is to evaluate, develop, and standardize methods to characterize and quantify the carbon removal by (1) forests and (2) direct air capture. Test methods to specifically measure carbon in these systems will be explored. A later focus of the consortium will be to evaluate the suitability of current measurement standards for carbon removal in additional pathways prioritized by through stakeholder input and, where appropriate, develop new test methods needed to help build quality and confidence in the carbon removal marketplace. NIST and consortia partners will perform research together with the following four goals:

• Evaluate the suitability of current measurement approaches to quantify aspects of carbon dioxide removal.

• Validate the repeatability and comparability of the current measurement methods.

• Identify areas where measurements, models, and data should be expanded and enhanced to provide fit-for-purpose capabilities.

• Use these measurements as a foundation for test method(s) that can be standardized through a consensus-based standards development organization.

No proprietary information will be shared as part of the Consortium. Participants are expected to provide subject matter expertise and to actively participate in the consortium with the goal of developing measurement solutions to support the development of industry standards.

Participation Process

Eligibility to participate in the Consortium will be determined by NIST based on the information provided by prospective participants in response to this notice. NIST will evaluate the submitted responses from prospective participants to determine eligibility to participate in this Consortium. Consortium members are expected to contribute expertise related to carbon dioxide removal such as knowledge as a researcher, project developer, evaluator, purchaser, related experience, etc. that addresses the measurement, verification, and reporting of carbon dioxide removal. Prospective participants should provide a letter of interest with the following information to NIST's Consortium Manager:

(1) A description of their specific experience in or knowledge of carbon dioxide removal.

(2) List of interested party's anticipated project team and a contracts or legal contact for the CRADA.

Letters of interest must not include business proprietary information. NIST will not treat any information provided in response to this notice as proprietary information. NIST will notify each organization of its eligibility. In order to participate in this Consortium, each eligible organization will be required to sign a Cooperative Research and Development Agreement (CRADA) with NIST. All participants in the Consortium that are legally permitted to enter into a CRADA will be bound by the same terms and conditions. Organizations that are legally prohibited or not legally authorized to enter into a CRADA may, at NIST's discretion, be permitted to participate in the Consortium under an agreement other than a CRADA with terms that will differ, as necessary, from the terms of the CRADA. NIST does not guarantee participation in the Consortium to any organization submitting a letter of interest.

Authority: 15 U.S.C. 3710a.

Alicia Chambers,
NIST Executive Secretariat.

[FR Doc. 2024-17849 Filed 8-9-24; 8:45 am]

BILLING CODE 3510-13-P